OFFICE OF THE UNITED STATES TRADE REPRESENTATIVE

Conforming Amendment and Modification to Section 301 Action: China's Acts, Policies, and Practices Related to Technology Transfer, Intellectual Property, and Innovation

AGENCY: Office of the United States Trade Representative.

ACTION: Notice of modification and amendment of action.

SUMMARY: In a notice published on September 21, 2018 (September 21st Notice), the U.S. Trade Representative (Trade Representative) adopted a supplemental action in this 301 investigation by imposing additional duties on goods of China classified in subheadings of the Harmonized Tariff Schedule of the United States (HTSUS) listed in Annex A of that Notice. Pursuant to a Presidential Proclamation of July 30, 2018, certain HTSUS subheadings covered by the supplemental action will be modified as of October 1, 2018. This notice conforms the September 21 supplemental action to the HTSUS modifications in the Presidential Proclamation and amends the prior action taken in the investigation by removing certain subheadings of the HTSUS listed in Annex A to the September 21st Notice.

DATES:

October 1, 2018: The supplemental 301 action is modified to conform to the HTSUS modifications in the Presidential Proclamation of July 30, 2018 (Proclamation 9771), as set out in the Annex to this notice.

September 24, 2018: The modification removing certain HTSUS subheadings applies to the date of the imposition of the additional tariff, as set out in paragraph C to the Annex to this notice.

FOR FURTHER INFORMATION CONTACT: For questions about this notice, contact Assistant General Counsels Arthur Tsao or Megan Grimball, or Director of Industrial Goods Justin Hoffmann at (202) 395-5725. For questions on customs classification or implementation of additional duties on products covered in the supplemental action, contact traderemedy@cbp.dhs.gov.

SUPPLEMENTARY INFORMATION: In the September 21st Notice (83 FR 47974), the Trade Representative, in accordance with the specific direction of the President, determined to modify the action being taken in this Section 301 investigation by imposing additional duties on products of China classified in the full and partial subheadings of the HTSUS set out in Annex A to the September 21st Notice, while maintaining the prior action being taken in the investigation. This supplemental action was effective on September 24, 2018.

Proclamation 9771 (83 FR 37993), among other things, modifies the HTSUS to ensure conformity with U.S. obligations under the International Convention on the Harmonized Commodity Description and Coding System, based on a recommendation of the U.S. International Trade Commission. These HTSUS modifications are effective October 1, 2018.

The HTSUS modifications in Proclamation 9771 include certain subheadings in chapter 44 of the HTSUS covered by the action in the September 21st Notice. Paragraph A of the Annex to this notice makes the appropriate conforming amendments to the supplemental action set out in the September 21st Notice. In particular, 14 subheadings in chapter 44 deleted by Proclamation 9771 are accordingly deleted from Annex A of the September 21st Notice, and are replaced by the corresponding 38 new subheadings in chapter 44 of the HTSUS that were added by Proclamation 9771. These changes to the September 21 action are effective on October 1, 2018.

Paragraph B of the Annex to this notice corrects a typographical error in the fourth paragraph of U.S. Note 20(a) to subchapter III of chapter 99, as set out in Annex C of the notice published at 83 FR 40823 (August 16, 2018).

To account fully for the extensive public comments and testimony previously provided in response to the Federal Register notices seeking public comments (83 FR 33608, 83 FR 38760), the Trade Representative has determined to further modify the action being taken in the investigation. Paragraph C of the Annex to this notice removes two subheadings from the list of subheadings of the HTSUS subject to the additional duties set forth in Annex A of the September 21st Notice.

Jeffrey Gerrish,
Deputy U.S. Trade Representative.

BILLING CODE 3290-F8-P

[FR Doc. 2018-21303 Filed 9-27-18; 8:45 am]

BILLING CODE 3290-F8-C